ENVIRONMENTAL PROTECTION AGENCY

[FRL-8904-9]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1130.09; NSPS for Grain Elevators (Renewal); in 40 CFR part 60, subpart DD; was approved 04/09/2009; OMB Number 2060-0082; expires 04/30/2012.

EPA ICR Number 2100.03; Reporting Requirements under EPA's Climate Leaders Partnership (Renewal); was approved 04/16/2009; OMB Number 2060-0532; expires 04/30/2012.

EPA ICR Number 1432.29; Recordkeeping and Periodic Reporting of the Production, Import, Export, Recycling, Destruction, Transhipment, and Feedstock Use of Ozone-Depleting Substances (Renewal); was approved 04/16/2009; OMB Number 2060-0170; expires 04/30/2012.

EPA ICR Number 2170.03; Air Emissions Reporting Requirements (AERR) (Final Rule); in 40 CFR part 51; was approved 04/16/2009; OMB Number 2060-0580; expires 04/30/2012.

EPA ICR Number 1895.04; Microbial Rules (Renewal); in 40 CFR parts 141 and 142; was approved 04/17/2009; OMB Number 2040-0205; expires 04/30/2012.

EPA ICR Number 2185.03; State Review Framework (Revision); in 40 CFR 271.17(a), 40 CFR 70.4 and 40 CFR 123.41; was approved 04/23/2009; OMB Number 2020-0031; expires 04/30/2011.

EPA ICR Number 2081.04; Health Effects of Microbial Pathogens in Recreational Waters; National Epidemiological and Environmental Assessment of Recreational (NEEAR) Water Study (Renewal); was approved 04/23/2009; OMB Number 2080-0068; expires 04/30/2012.

EPA ICR Number 1230.26; Prevention of Significant Deterioration and Non-Attainment New Source Review (Final Rule for Flexible Air Permits); in 40 CFR 51.160-51.166, 40 CFR part 51, appendix S, 40 CFR 52.24, and 40 CFR 52.21; was preapproved 04/22/2009; OMB Number 2060-0003; expires 04/30/2012.

EPA ICR Number 1587.10; State Operating Permit Regulations (Final Rule for Flexible Air Permits); in 40 CFR part 70; was preapproved 04/22/2009; OMB Number 2060-0243; expires 04/30/2012.

EPA ICR Number 1748.08; Annual Reporting Form for State Small Business Stationary Source Technical and Environmental Compliance Assistance Program (SBTCP); was approved 04/23/2009; OMB Number 2060-0337; expires 04/30/2012.

EPA ICR Number 2203.02; Revisions to the Emissions Monitoring Rule Under the Acid Rain Program, NOX Budget Trading Program, and Clean Air Interstate Programs (Final Rule); in 40 CFR parts 72 and 75; was approved 04/23/2009; OMB Number 2060-0626; expires 04/30/2012.

EPA ICR Number 1127.09; NSPS for Hot Mix Asphalt Facilities (Renewal); in 40 CFR part 60, subpart I; was approved 04/23/2009; OMB Number 2060-0083; expires 04/30/2012.

EPA ICR Number 1167.09; NSPS for Lime Manufacturing (Renewal); in 40 CFR part 60, subpart HH; was approved 04/23/2009; OMB Number 2060-0063; expires 04/30/2012.

EPA ICR Number 1055.09; NSPS for Kraft Pulp Mills (Renewal); in 40 CFR part 60, subpart BB; was approved 04/23/2009; OMB Number 2060-0021; expires 04/30/2012.

EPA ICR Number 2159.03; Background Checks for Contractor Employees (Renewal); in 40 CFR parts 731, 732 and 736; was approved 04/23/2009; OMB Number 2060-0043; expires 04/30/2012.

EPA ICR Number 0940.22; Ambient Air Quality Surveillance (Final Rule for Lead); in 40 CFR part 58; was approved 04/23/2009; OMB Number 2060-0084; expires 04/30/2012.

EPA ICR Number 1867.04; Voluntary Aluminum Industrial Partnership (VAIP) (Renewal); was approved 04/27/2009; OMB Number 2060-0411; expires 04/30/2012.

EPA ICR Number 1849.05; Landfill Methane Outreach Program (Reinstatement); was approved 04/27/2009; OMB Number 2060-0446; expires 04/30/2012.

EPA ICR Number 2293.01; National-Scale Activity Survey (N-SAS); was approved 04/27/2009; OMB Number 2060-0627; expires 12/31/2009.

EPA ICR Number 1688.06; RCRA Expanded Public Participating (Renewal); in 40 CFR 124.31—124.33 and 40 CFR 270.62—270-66; was approved 04/27/2009; OMB Number 2050-0149; expires 04/30/2012.

EPA ICR Number 1789.06; NESHAP for Natural Gas Transmission and Storage (Renewal); in 40 CFR part 63, subpart HHH; was approved 04/27/2009; OMB Number 2060-0418; expires 04/30/2012.

EPA ICR Number 1039.12; Monthly Progress Reports (Renewal); in 48 CFR 1552.211; was approved 04/28/2009; OMB Number 2030-0005; expires 04/30/2012.

EPA ICR Number 0938.16; General Administrative Requirements for Assistance Programs (Renewal); in 40 CFR parts 30 and 31; was approved 04/28/2009; OMB Number 2030-0020; expires 04/30/2012.

EPA ICR Number 1823.04; Reporting and Recordkeeping Requirements Under the Perflurocompound (PFC) Reduction/Climate Partnership for the Semiconductor Industry (Reinstatement); was approved 04/29/2009; OMB Number 2060-0382; expires 04/30/2012.

EPA ICR Number 1856.06; NESHAP for Primary Lead Smelters (Renewal); in 40 CFR part 63, subpart TTT; was approved 05/01/2009; OMB Number 2060-0414; expires 05/31/2012.

EPA ICR Number 1081.09; NESHAP for Inorganic Arsenic Emissions from Glass Manufacturing Plants (Renewal); in 40 CFR part 61, subpart N; was approved 05/01/2009; OMB Number 2060-0043; expires 05/31/2012.

EPA ICR Number 1362.08; National Emissions Standards for Coke Oven Batteries (Renewal); in 40 CFR part 63, subpart L; was approved 05/01/2009; OMB Number 2060-0253; expires 05/31/2012.

EPA ICR Number 1811.06; NESHAP for Polyether Polyol Production; in 40 CFR part 63, subpart PPP; was approved 05/01/2009; OMB Number 2060-0415; expires 05/31/2012.

EPA ICR Number 0160.09; Pesticide Registration Application, Notification and Report for Pesticide Producing Establishments (Renewal); in 40 CFR part 167; was approved 05/01/2009; OMB Number 2070-0078; expires 05/31/2012.

EPA ICR Number 2310.01; Revisions to the RCRA Definition of Solid Waste (Final Rule); in 40 CFR parts 260 and 261; was approved 05/04/2009; OMB Number 2050-0202; expires 05/31/2012.

EPA ICR Number 0246.10; Contractor Cumulative Claim and Reconciliation (Renewal); was approved 05/06/2009; OMB Number 2030-0016; expires 05/31/2012.

OMB Comments Filed

EPA ICR Number 1730.07; NSPS for Hospital/Medical/Infectious Waste Incinerators (40 CFR part 60, subpart Ec) (Proposed Rule); OMB filed comment on 04/09/2009.

EPA ICR Number 2318.01; Data Requirements for Antimicrobial Pesticides (Proposed Rule); OMB filed comment on 04/21/2009.

EPA ICR Number 2324.01; Amendment to the Universal Waste Rule: Addition of Pharmaceuticals (Proposed Rule); OMB filed comment on 05/01/2009.

EPA ICR Number 2308.01; OECD SLAB Revisions (Proposed Rule); OMB filed comment on 05/01/2009.

EPA ICR Number 2335.01; EG for Hospital/Medical/Infectious Waste Incinerators (40 CFR part 60, subpart Ce) (40 CFR Part 62, HHH) (Proposed Rule); OMB filed comment on 05/01/2009.

EPA ICR Number 2327.01; Electronic Submission of Certain TSCA Section 5 Notices (Proposed Rule); OMB filed comment on 05/01/2009.

Dated: May 8, 2009.
John Moses,
Director, Collection Strategies Division.

[FR Doc. E9-11274 Filed 5-13-09; 8:45 am]

BILLING CODE 6560-50-P